NATIONAL FOUNDATION FOR THE ARTS AND HUMANITIES

Submission for OMB Review, Comment Request, Proposed Collection: General Clearance for Guidelines, Applications, and Reporting Forms

AGENCY: Institute of Museum and Library Services, National Foundation for the Arts and Humanities.

ACTION: Submission for OMB Review, comment request.

SUMMARY: The Institute of Museum and Library Services announces the following information collection has been submitted to the Office of Management and Budget (OMB) for review and approval in accordance with the Paperwork Reduction Act (44 U.S.C. Chapter 35). This program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Comments must be submitted to the office listed in the Contact section below on or before June 22, 2015.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: Kim A. Miller, Management Analyst, Institute of Museum and Library Services, 1800 M Street NW., 9th Floor, Washington, DC 20036. Telephone: 202-653-4762; Fax: 202-653-4600; or email: kmiller@imls.gov; or by teletype (TTY/TDD) for persons with hearing difficulty at 202-653-4614.

SUPPLEMENTARY INFORMATION: The Institute of Museum and Library Services is the primary source of federal support for the Nation's 123,000 libraries and 35,000 museums. The Institute's mission is to inspire libraries and museums to advance innovation, learning and civic engagement. We provide leadership through research, policy development, and grant making. IMLS provides a variety of grant programs to assist the Nation's museums and libraries in improving their operations and enhancing their services to the public. (20 U.S.C. 9101 et seq.). To administer these programs, IMLS must develop application guidelines and reporting forms.

Current Actions: This notice proposes general clearance of the agency's application guidelines and reporting forms. The 60-day Notice for the “Notice of Continuance for General Clearance for Guidelines, Applications, and Reporting Forms” was published in the Federal Register on February 6, 2015 (FR vol. 80, No. 25, pgs. 6771-6772). The agency has taken into consideration the one comment that was received under this notice.

Agency: Institute of Museum and Library Services.

Title: IMLS Guidelines, Applications and Reporting Forms.

OMB Number: 3137-0029, 3137-0071.

Agency Number: 3137.

Frequency: Annually, Semi-annually.

Affected Public: State Library Administrative Agencies, museums, libraries, institutions of higher education, library and museum professional associations, and museum and library professionals, Indian tribes (including Alaska native villages, regional corporations, or village corporations), and organizations that primarily serve and represent Native Hawaiians.

Number of Respondents: 8,375.

Estimated Time per Respondent: .08-90 hours.

Total Burden Hours: 61,076.

Total Annualized cost to respondents: $1,689,965.

Total Annualized capital/startup costs: 0.

Total Annualized Cost to Federal Government: $485,241.

Contact: Comments should be sent to Office of Information and Regulatory Affairs, Attn.: OMB Desk Officer for Education, Office of Management and Budget, Room 10235, Washington, DC 20503, (202) 395-7316.

Dated: May 19, 2015.
Kim A. Miller,
Management Analyst, Office of Policy, Planning, Research, and Evaluation.

[FR Doc. 2015-12451 Filed 5-21-15; 8:45 am]

BILLING CODE 7036-01-P